DEPARTMENT OF HEALTH AND HUMAN SERVICES

National Institutes of Health

National Cancer Institute Amended Notice of Meeting

Notice is hereby given of a change in the meeting of the National Cancer Institute Special Emphasis Panel, February 08, 2018, 09:00 a.m. to February 08, 2018, 04:00 p.m., National Cancer Institute Shady Grove, 9609 Medical Center Drive, Rockville, MD 20850 which was published in the Federal Register on December 27, 2017, 82 FR 61309.

This meeting notice is amended to change the meeting title from “Cancer Cachexia Therapy and Local Delivery of Chemopreventive Agents” to “TEP-9A: Local Delivery of Chemopreventive Agents for Cancer”. The meeting is closed to the public.

Dated: January 9, 2018.
Melanie J. Pantoja,
Program Analyst, Office of Federal Advisory Committee Policy.

[FR Doc. 2018-00872 Filed 1-18-18; 8:45 am]

BILLING CODE 4140-01-P